INTERNATIONAL TRADE COMMISSION

[Investigation No. 701-TA-376 (Second Review)]

Stainless Steel Plate From Belgium; Termination of Five-Year Review

AGENCY: United States International Trade Commission.

ACTION: Notice.

SUMMARY: Effective June 1, 2010, the Department of Commerce (“Commerce”) initiated and the U.S. International Trade Commission (“Commission”) instituted a five-year review concerning the countervailing duty order on stainless steel plate from Belgium (75 FR 30777 and 75 FR 30434). On May 5, 2011, Commerce published notice in the Federal Register of the final results of its full five-year review of the countervailing duty order concerning stainless steel plate from Belgium, finding that revocation of the countervailing duty order would not likely lead to continuation or recurrence of a countervailable subsidy. Therefore, Commerce revoked the countervailing duty order (76 FR 25666). Accordingly, pursuant to section 751(c) of the Tariff Act of 1930 (19 U.S.C. 1675(c)), the subject review is terminated.

DATES: Effective Date: May 5, 2011.

FOR FURTHER INFORMATION CONTACT: Keysha Martinez (202-205-2136), Office of Investigations, U.S. International Trade Commission, 500 E Street, SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov).The public record for this investigation may be viewed on the Commission's electronic docket (EDIS) at http://edis.usitc.gov.

Authority: This review is being terminated under authority of title VII of the Tariff Act of 1930; this notice is published pursuant to section 207.69 of the Commission's rules (19 CFR 207.69).

By order of the Commission.
Issued: May 12, 2011.
James R. Holbein,
Acting Secretary to the Commission.

[FR Doc. 2011-12181 Filed 5-17-11; 8:45 am]

BILLING CODE 7020-02-P